DEPARTMENT OF COMMERCE

International Trade Administration

[A-570-172, C-570-173]

Vanillin From the People's Republic of China: Antidumping and Countervailing Duty Orders

AGENCY: Enforcement and Compliance, International Trade Administration, Department of Commerce.

SUMMARY: Based on affirmative final determinations by the U.S. Department of Commerce (Commerce) and the U.S. International Trade Commission (ITC), Commerce is issuing antidumping (AD) and countervailing duty (CVD) orders on vanillin from the People's Republic of China (China).

DATES: Applicable July 28, 2025.

FOR FURTHER INFORMATION CONTACT: Bryan Hansen (AD) or Dylan Hill (CVD) AD/CVD Operations, Offices I and IV, Enforcement and Compliance, International Trade Administration, U.S. Department of Commerce, 1401 Constitution Avenue NW, Washington, DC 20230; telephone: (202) 482-3683 and (202) 482-1197, respectively.

SUPPLEMENTARY INFORMATION:

Background

In accordance with sections 705(d), 735(d), and 777(i) of the Tariff Act of 1930, as amended (the Act), on June 6, 2025, Commerce published its affirmative final determination of sales at less-than-fair-value (LFTV) of vanillin from China and its affirmative final determination that countervailable subsidies are being provided to producers and exporters of vanillin from China.¹

¹ See Vanillin from the People's Republic of China: Final Affirmative Determination of Sales at Less Than Fair Value, 90 FR 24093 (June 6, 2025); see also Vanillin from the People's Republic of China: Final Affirmative Countervailing Duty Determination, 90 FR 24095 (June 6, 2025).

On July 18, 2025, the ITC notified Commerce of its final affirmative determinations that an industry in the United States is materially injured within the meanings of sections 705(b)(1)(A)(i) and 735(b)(1)(A)(i) of the Act by reason of subsidized imports of vanillin from China and by reason of imports of vanillin that are sold in the United States at less than fair value.²

² See ITC's Letter, “Chair Determinations Letter to Commerce,” dated July 18, 2025 (ITC Notification Letter).

Scope of the Orders

The product covered by these orders is vanillin from China. For a complete description of the scope of these orders, see the appendix to this notice.

Antidumping Duty Order

On July 18, 2025, in accordance with section 735(d) of the Act, the ITC notified Commerce of its final determination that an industry in the United States is materially injured within the meaning of section 735(b)(1)(A)(i) of the Act by reason of imports of vanillin that are sold in the United States for less than fair value. Therefore, in accordance with sections 735(c)(2) and 736 of the Act, Commerce is issuing this AD order. Because the ITC determined that imports of vanillin from China are materially injuring a U.S. industry, unliquidated entries of such merchandise from China, entered or withdrawn from warehouse for consumption, are subject to the assessment of antidumping duties.

Therefore, in accordance with section 736(a)(1) of the Act, Commerce will direct U.S. Customs and Border Protection (CBP) to assess, upon further instruction by Commerce, antidumping duties equal to the amount by which the normal value of the merchandise exceeds the export price (or constructed export price) of the merchandise for all relevant entries of vanillin from China. Antidumping duties will be assessed on unliquidated entries of vanillin from China entered, or withdrawn from warehouse, for consumption on or after January 16, 2025, the date of publication of the LTFV Preliminary Determination,³ but will not include entries occurring after the expiration of the provisional measures period and before publication of the ITC's final injury determination, as further described in the “Provisional Measures—AD ” section of this notice.

³ See Vanillin from the People's Republic of China: Preliminary Affirmative Determination of Sales at Less Than Fair Value, Postponement of Final Determination and Extension of Provisional Measures, 90 FR 4720 (January 16, 2025) (LTFV Preliminary Determination), and accompanying Preliminary Decision Memorandum.

Suspension of Liquidation and Cash Deposits—AD

In accordance with section 736 of the Act, Commerce intends to instruct CBP to reinstitute the suspension of liquidation of vanillin from China, effective on the date of publication of the ITC's final affirmative injury determination in the Federal Register. These instructions suspending liquidation will remain in effect until further notice. Commerce also intends to instruct CBP to require cash deposits equal to the estimated weighted-average dumping margins indicated in the table below. The rate for the China-wide entity applies to all producers and exporters not specifically listed below, as appropriate.

Estimated Weighted-Average Dumping Margins

The estimated weighted-average dumping margins are as follows:

Exporter | Producer | Weighted-average dumping margin (percent) | Cash deposit rate (adjusted for subsidy offsets) (percent)
Jiangxi Brother Pharmaceutical Co., Ltd | Jiangxi Brother Pharmaceutical Co., Ltd | 190.20 | 190.15
Chongqing Thrive Fine Chemicals Co., Ltd | Chongqing Thrive Fine Chemicals Co., Ltd | 190.20 | 190.15
HongKong Wictive Merchants Co., Ltd | Kunshan Asia Aroma Corp., Ltd | 190.20 | 190.15
Kunshan Asia Aroma Corp., Ltd | Kunshan Asia Aroma Corp., Ltd | 190.20 | 190.15
Mianyang Sunshine Bio-Tech Co., Ltd | Mianyang Sunshine Bio-Tech Co., Ltd | 190.20 | 190.15
Shanghai Fuxin Fine Chemical Co., Ltd | Jiaxing Zhonghua Chemical Co., Ltd | 190.20 | 190.15
Shenzhen Siyomicro Bio-Tech Co., Ltd | Shenzhen Siyomicro Bio-Tech Co., Ltd | 190.20 | 190.15
Wuxi Lotus Essence Co., Ltd | Jiaxing Zhonghua Chemical Co., Ltd | 190.20 | 190.15
Xiamen Bestally Biotechnology Co., Ltd | Xiamen Oamic Biotech Co., Ltd | 190.20 | 190.15
China-Wide Entity |  | * 379.87 | 379.82
* Rate based on facts available with adverse inferences.

Provisional Measures—AD

Section 733(d) of the Act states that suspension of liquidation pursuant to an affirmative preliminary determination may not remain in effect for more than four months, except where exporters representing a significant proportion of exports of the subject merchandise request that Commerce extend the four-month period to no more than six months. Commerce published the LTFV Preliminary Determination on January 16, 2025.

The provisional measures period, beginning on the date of publication of the LTFV Preliminary Determination, ended on July 14, 2025. Therefore, in accordance with section 733(d) of the Act and our practice,⁴ Commerce will instruct CBP to terminate the suspension of liquidation and to liquidate, without regard to antidumping duties, unliquidated entries of vanillin from China entered, or withdrawn from warehouse, for consumption after July 14, 2025, the final day on which the provisional measures were in effect, until and through the day preceding the date of publication of the ITC's final affirmative injury determination in the Federal Register. Suspension of liquidation and the collection of cash deposits will resume on the date of publication of the ITC's final determination in the Federal Register.

⁴ See, e.g., Certain Corrosion-Resistant Steel Products from India, Italy, the People's Republic of China, the Republic of Korea and Taiwan: Amended Final Affirmative Antidumping Determination for India and Taiwan, and Antidumping Duty Orders, 81 FR 48390, 48392 (July 25, 2016).

Countervailing Duty Order

As stated above, on July 18, 2025, the ITC notified Commerce of its final determinations that an industry in the United States is materially injured within the meaning of section 705(b)(1)(A)(i) of the Act by reason of subsidized imports of vanillin from China.⁵ Therefore, in accordance with section 705(c)(2) of the Act, Commerce is issuing this countervailing duty order. Moreover, because the ITC determined that imports of vanillin from China are materially injuring a U.S. industry, unliquidated entries of such merchandise from China, entered or withdrawn from warehouse for consumption, are subject to the assessment of countervailing duties.

⁵ See ITC Notification Letter.

Therefore, in accordance with section 706(a) of the Act, Commerce intends to direct CBP to assess, upon further instruction by Commerce, countervailing duties on unliquidated entries of vanillin from China entered, or withdrawn from warehouse, for consumption on or after November 18, 2024, the date of the publication of the CVD Preliminary Determination,⁶ but will not include entries occurring after the expiration of the provisional measures and before the publication in the Federal Register of the ITC's final injury determination under section 705(b) of the Act, as further described in the “Provisional Measures—CVD” section of this notice.

⁶ See Vanillin from the People's Republic of China: Preliminary Affirmative Countervailing Duty Determination and Alignment of Final Determination with Final Antidumping Duty Determination, 89 FR 90671 (November 18, 2024) (CVD Preliminary Determination).

Suspension of Liquidation and Cash Deposits

In accordance with section 706 of the Act, we will instruct CBP to reinstitute suspension of liquidation on all relevant entries of vanillin from China, effective on the date of publication of the ITC's final affirmative injury determination in the Federal Register, and to assess, upon further instruction by Commerce, pursuant to section 706(a)(1) of the Act, countervailing duties for each entry of the subject merchandise in an amount based on the net countervailable subsidy rate for the subject merchandise. These instructions suspending liquidation will remain in effect until further notice.

Commerce will also instruct CBP to require cash deposits equal to the amounts as indicated below. Accordingly, effective on the date of publication of the ITC's final affirmative injury determination in the Federal Register, CBP will require, at the same time as importers would normally deposit estimated duties on the subject merchandise, a cash deposit for each entry of subject merchandise equal to the subsidy rates listed below.⁷ The all-others rate applies to all producers or exporters not specifically listed below, as appropriate.

⁷ See section 706(a)(3) of the Act.

Estimated Countervailable Subsidy Rates

The estimated countervailable subsidy rates are as follows:

Company | Subsidy rate (percent ad valorem)
Jiaxing Guihua Imp. & Exp. Co., Ltd | 42.10
All Others | 42.10

Provisional Measures—CVD

Section 703(d) of the Act states that the suspension of liquidation pursuant to an affirmative preliminary determination may not remain in effect for more than four months. Commerce published the CVD Preliminary Determination on November 18, 2024.⁸ As such, the four-month period beginning on the date of the publication of the Preliminary Determinations ended on March 17, 2024.

⁸ See CVD Preliminary Determination.

Therefore, in accordance with section 703(d) of the Act, we instructed CBP to terminate the suspension of liquidation and to liquidate, without regard to countervailing duties, unliquidated entries of vanillin from China entered, or withdrawn from warehouse, for consumption after March 18, 2025, the date on which the provisional measures were no longer in effect, until and through the day preceding the date of publication of the ITC's final injury determination in the Federal Register. Suspension of liquidation and the collection of cash deposits will resume on the date of publication of the ITC's final determination in the Federal Register.

Establishment of the Annual Inquiry Service Lists

Commerce published the Final Rule and the Procedural Guidance in the Federal Register on September 20, 2021, and September 27, 2021, respectively.⁹ The Final Rule and Procedural Guidance provide that Commerce will maintain an annual inquiry service list for each order or suspended investigation, and any interested party submitting a scope ruling application or request for circumvention inquiry shall serve a copy of the application or request on the persons on the annual inquiry service list for that order, as well as any companion order covering the same merchandise from the same country of origin.¹⁰

⁹ See Regulations to Improve Administration and Enforcement of Antidumping and Countervailing Duty Laws, 86 FR 52300 (September 20, 2021) (Final Rule); and Scope Ruling Application; Annual Inquiry Service List; and Informational Sessions, 86 FR 53205 (September 27, 2021) (Procedural Guidance).

¹⁰ Id.

In accordance with the Procedural Guidance, for orders published in the Federal Register after November 4, 2021, Commerce will create an annual inquiry service list segment in Commerce's online e-filing and document management system, Antidumping and Countervailing Duty Electronic Service System (ACCESS), available at https://access.trade.gov, within five business days of publication of the notice of the order. Each annual inquiry service list will be saved in ACCESS, under each case number, and under a specific segment type called “AISL-Annual Inquiry Service List.” ¹¹

¹¹ This segment will be combined with the ACCESS Segment Specific Information (SSI) field which will display the month in which the notice of the order or suspended investigation was published in the Federal Register, also known as the anniversary month. For example, for an order under case number A-000-000 that was published in the Federal Register in January, the relevant segment and SSI combination will appear in ACCESS as “AISL-January Anniversary.” Note that there will be only one annual inquiry service list segment per case number, and the anniversary month will be pre-populated in ACCESS.

Interested parties who wish to be added to the annual inquiry service list for an order must submit an entry of appearance to the annual inquiry service list segment for the order in ACCESS within 30 days after the date of publication of the order. For ease of administration, Commerce requests that law firms with more than one attorney representing interested parties in an order designate a lead attorney to be included on the annual inquiry service list. Commerce will finalize the annual inquiry service list within five business days thereafter. As mentioned in the Procedural Guidance, ¹² the new annual inquiry service list will be in place until the following year, when the Opportunity Notice for the anniversary month of the order is published.

¹² See Procedural Guidance, 86 FR at 53206.

Commerce may update an annual inquiry service list at any time as needed based on interested parties' amendments to their entries of appearance to remove or otherwise modify their list of members and representatives, or to update contact information. Any changes or announcements pertaining to these procedures will be posted to the ACCESS website at https://access.trade.gov.

Special Instructions for Petitioners and Foreign Governments

In the Final Rule, Commerce stated that, “after an initial request and placement on the annual inquiry service list, both petitioners and foreign governments will automatically be placed on the annual inquiry service list in the years that follow.” ¹³ Accordingly, as stated above, the petitioner and the Government of China (GOC) should submit their initial entries of appearance after publication of this notice in order to appear in the first annual inquiry service lists for these orders for which they qualify as interested parties. Pursuant to 19 CFR 351.225(n)(3), the petitioner and the GOC will not need to resubmit their entries of appearance each year to continue to be included on the annual inquiry service list. However, the petitioner and the GOC are responsible for making amendments to their entries of appearance during the annual update to the annual inquiry service list in accordance with the procedures described above.

¹³ See Final Rule, 86 FR at 52335.

Notifications to Interested Parties

This notice constitutes the AD and CVD orders with respect to vanillin from China pursuant to section 736(a) and 706(a) of the Act. Interested parties can find a list of AD and CVD orders currently in effect at https://www.trade.gov/data-visualization/adcvd-proceedings.

These orders are published in accordance with sections 736(a) and 706(a) of the Act, and 19 CFR 351.211(b).

Dated: July 23, 2025.
Christopher Abbott,
Deputy Assistant Secretary for Policy and Negotiations, performing the non-exclusive functions and duties of the Assistant Secretary for Enforcement and Compliance.

Appendix

Scope of the Orders

The merchandise covered by these orders is vanillin, with the molecular formula C8H8O3 or C9H10O3. Merchandise subject to these orders consists of natural vanillin, synthetic vanillin, bio-sourced synthetic vanillin (biovanillin) (each also known as 4-Hydroxy-3-methoxybenzaldehyde), and ethylvanillin (also known as 3-Ethoxy-4-hydroxybenzaldehyde). Vanillin covered by these orders is a chemical compound with the Chemical Abstracts Service (CAS) number 121-33-5 or 121-32-4. Vanillin is covered by these orders regardless of whether it is in a crystalline powder or crystal form. Vanillin is covered by the scope of these orders, irrespective of purity, particle size, or physical form.

Merchandise subject to these orders is specified within the Harmonized Tariff Schedule of the United States (HTSUS) under subheading 2912.41.0000 and 2912.42.0000. The HTSUS subheadings and CAS registry numbers are provided for convenience and customs purposes only. The written description of the merchandise covered by these orders is dispositive.

[FR Doc. 2025-14213 Filed 7-25-25; 8:45 am]

BILLING CODE 3510-DS-P